FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than March 22, 2007.

A. Federal Reserve Bank of St. Louis (Glenda Wilson, Community Affairs Officer) 411 Locust Street, St. Louis, Missouri 63166-2034:

1. Mitchell J. Bennett, Falls of the Rough, Kentucky (individually), and the Bennett Family Control Group, to retain Farmers Bancshares, Inc., Hardinsburg, Kentucky, and thereby indirectly acquire The Farmers Bank, Hardinsburg, Kentucky, and Leitchfield Deposit Bank & Trust Company, Leitchfield, Kentucky. The Control Group consists of Mitchell J. Bennett, Mitchell Bennett, Pam Bennett, and Mason Bennett, all of the Falls of the Rough, Kentucky; Charles D. Bennett, Jeanette Bennett, and Annette Martin, all of Hardinsburg, Kentucky; David C. Bennett, Maria L. Bennett, Roark Wilson, Sienna Wilson, and the C & J Bennett Family Limited Partnership, all of Leitchfield, Kentucky; Matthew Burden, and Zander Burden, both of Atlanta, Georgia; Rebecca Bennett, Bowling Green, Kentucky, and Sarah Bennett, Gardner, Colorado.

B. Federal Reserve Bank of Atlanta (David Tatum, Vice President) 1000 Peachtree Street, N.E., Atlanta, Georgia 30303:

2. United Americas Bankshares, Inc., Atlanta, Georgia, (after-the-fact) change in control notice filed by Mr. Salvador Diaz-Verson, Sarasota, Florida, to retain shares of United Americas Bankshares, Inc., and indirectly acquire United Americas Bank, National Association, both of Atlanta, Georgia.

Board of Governors of the Federal Reserve System, March 2, 2007.
Robert deV. Frierson,
Deputy Secretary of the Board.

[FR Doc. E7-4043 Filed 3-6-07; 8:45 am]

BILLING CODE 6210-01-S